DEPARTMENT OF AGRICULTURE

National Agricultural Library

Notice of Intent To Seek Renewal of Existing Information Collection

AGENCY: USDA, Agricultural Research Service, National Agricultural Library.

ACTION: Notice and request for comments.

SUMMARY: In accordance with the Paperwork Reduction Act of 1995 (Pub. L. 104-13) and Office of Management and Budget (OMB) regulations at 5 CFR part 1320 (60 FR 44978, August 29, 1995), this notice announces the National Agricultural Library's intent to request approval for a new electronic mailing list subscription form from researchers and practitioners working with water quality and water resources. This voluntary form gives individuals an opportunity to receive and post messages to an electronic discussion list maintained by the Water Quality Information Center (WQIC).

DATES: Comments on this notice must be received by February 20, 2009 to be assured of consideration.

ADDRESSES: You may submit comments by any of the following methods:

• Agency Web site: http://www.nal.usda.gov/wqic/askaquestion.php. Follow the instructions for submitting comments on the Water Quality Information Center Web site.

• Fax: 301-504-6409 attention Water Quality Information Center.

• Mail/Hand Delivery/Courier: Water Quality Information Center/National Agricultural Library, 10301 Baltimore Ave., Room 107, Beltsville, Maryland 20705-2351.

SUPPLEMENTARY INFORMATION:

Title: Electronic Mailing List Subscription Form.

OMB Number: 0518-0045.

Expiration Date: 3 years from date of approval.

Type of Request: Renewal of existing information collection from Water Quality Information Center distribution list subscribers.

Abstract: The National Agricultural Library's Water Quality Information Center (WQIC) currently maintains an on-line (electronic) announcement-only distribution list. Announcements are distributed to and by distribution list subscribers (participants) through e-mail messages (the service). Participants study or practice in the subject areas covering water and agriculture. Submission of the voluntary “Electronic Mailing List Subscription Form” gives individual researchers and practitioners the opportunity to directly receive and post (share) appropriate announcements through the service. This form contains five items and is used to collect information regarding subjects of interest of potential participants prior to the assignment of distribution list subscriptions. An electronic distribution list subscription form is in place to determine significant interest in potential subscribers through self-description. Information collected includes the potential participant's name, e-mail address, job title, work affiliation, and topics of interest. The online submission form will continue to serve as an efficient vehicle that allows WQIC staff to ensure topical integrity of distribution list content as the information center communicates with researchers and practitioners whose significant interests are water and agriculture.

Estimate of Burden for Electronic Mailing List Subscription Form: Public reporting burden for this information collection is estimated to average 1.0 minutes per response.

Respondents: Water quality and water resources researchers and practitioners.

Estimated Number of Respondents: 60 per year.

Estimated Total Annual Burden on Respondents: 1.0 hrs.

Comments: Comments are invited on (a) Whether the proposed collection of information is necessary for the proper performance for the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for OMB approval. All comments will become a matter of public record.

Dated: December 2, 2008.
Antoinette A. Betschart,
Associate Administrator, ARS.

[FR Doc. E8-29948 Filed 12-16-08; 8:45 am]

BILLING CODE 3410-O3-P